FEDERAL MARITIME COMMISSION

Notice of Agreement Filed

The Commission hereby gives notice of the filing of the following agreement under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011527-012.

Title: East Coast Americas Service.

Parties: Hanjin Shipping Co., Ltd.; Kawasaki Kisen Kaisha, Ltd.; and Mitsui O.S.K. Lines, Ltd.

Filing Party: Howard A. Levy, Esq.; 80 Wall Street; Suite 1117; New York, NY 10005-3602.

Synopsis: The amendment adds Yang Ming Marine Transport, Corp. as a party to the agreement and reflects MOL's resignation from the agreement effective August 7, 2006.

By Order of the Federal Maritime Commission.
Dated: June 2, 2006.
Bryant L. VanBrakle,
Secretary.

[FR Doc. E6-8836 Filed 6-6-06; 8:45 am]

BILLING CODE 6730-01-P